DEPARTMENT OF STATE

[Public Notice 7945]

International Joint Commission

International Joint Commission Invites Public Comment on Upper Great Lakes Report

The International Joint Commission (IJC) announced today that it is inviting public comment on the final report of its International Upper Great Lakes Study Board, Lake Superior Regulation: Addressing Uncertainty in Upper Great Lakes Water Levels. Comments will be accepted at public hearings and by mail, email and on-line until August 31, 2012.

The Study examines whether the regulation of outflows from Lake Superior through the compensating works and power dams on the St. Marys River at Sault Ste. Marie might be improved to take into consideration the evolving needs of users on Lakes Superior, Huron, Michigan and Erie. The Commission is considering proposed changes to its Orders of Approval for the outflows of Lake Superior at the St. Marys River that have been recommended by the Study. The Study report also examines the potential future impacts of climate change, a management strategy to better anticipate and respond to future extreme water levels, the feasibility and implications of restoring water levels in lakes Michigan-Huron and multi-lake regulation and its impacts throughout the Great Lakes St-Lawrence system. The report and related supporting documents and peer review are available at the Upper Great Lakes Public Hearings Web site.

Commissioners invite the public to present comments at hearings that will be held the following dates and locations:

Monday, July 9 | Tuesday, July 10 | Wednesday, July 11 | Thursday, July 12
Sarnia, ON, 7:00 pm EDT, Lambton College, Room A223, 1457 London Rd | Grosse Pointe Farms, MI, 7:00 pm EDT, The Grosse Pointe War Memorial, Reception Room, 32 Lakeshore Drive | Port Clinton, OH, 7:00 pm EDT, Sutton Center, 1848 E. Perry St | Holland, MI, 7:00 pm EDT, Doubletree Hotel, 650 East 24th Street.
Thunder Bay, ON, 7:00 pm EDT, Lakehead University, ATAC Room 1001, 955 Oliver Road | Duluth, MN, 6:00 pm CDT, Labovitz School of Business, 1318 Kirby Drive | Fish Creek, WI, 6:00 pm CDT, Door Community Auditorium, 3926 Wisconsin Hwy 42 | Milwaukee, WI, 6:00 pm CDT, University of Wisconsin-Milwaukee's Great Lakes Water Institute, 600 E. Greenfield Ave.
Saturday, July 14 | Sunday, July 15 | Monday, July 16 | Tuesday, July 17
Sault Ste. Marie, ON, 1:00 pm EDT, Algoma University, Great West Life Theatre, 1520 Queen Street East | Little Current, ON, 1:00 pm EDT, Northeast Manitoulin and the Islands Recreation Center, 9001 Hwy-6 S | Parry Sound, ON, 2:00 pm EDT, Bobby Orr Community Centre, 7-17 Marry Street | Collingwood, ON, 1:00 pm EDT, Cranberry Resort, 19 Keith Ave, RR#4.
|  | Midland, ON, 7:00 pm EDT, North Simcoe Sports and Recreation Centre, 527 Len Self Boulevard

Video conference technology will be used to link the hearings scheduled from July 9-12 and to allow the participation of some Commissioners from other locations.

Two teleconferences will be held for those people who are not able to attend the meetings. One will be held in English on and the other in French. Details of the teleconferences will be provided in a subsequent news release.

Written comments may be submitted to the IJC for receipt by August 31, 2012 from the Upper Great Lakes Public Hearings Web site or to either address below: U.S. Section Secretary, International Joint Commission, 200 L Street NW., Suite 615, Washington, DC 20440, Fax: 202-632-2006, commission@washington.ijc.org Canadian Section Secretary, International Joint Commission, 234 Laurier Avenue West, 22nd Floor, Ottawa, ON K1P 6K6, Fax: 613-993-5583, commission@ottawa.ijc.org.

Technical questions should be sent in writing to the Commission if a detailed response is expected.

The International Joint Commission was established under the Boundary Waters Treaty of 1909 to help the United States and Canada prevent and resolve disputes over the use of the waters the two countries share. Its responsibilities include considering applications for projects that affect the natural levels and flows of boundary waters. For more information, visit the Commission's Web site at www.ijc.org.

Contacts
Bernard Beckhoff (Ottawa) | 613-947-1420 | beckhoffb@ottawa.ijc.org.
Frank Bevacqua (Washington) | 202-736-9024 | bevacqauf@washington.ijc.org.

Dated: June 27, 2012.
Charles A. Lawson,
Secretary, U.S. Section, International Joint Commission, Department of State.

[FR Doc. 2012-16316 Filed 7-2-12; 8:45 am]

BILLING CODE 4710-14-P